DEPARTMENT OF HEALTH AND HUMAN SERVICES

Administration for Children and Families

Submission for Office of Management and Budget (OMB) Review; Social Services Block Grant Post-Expenditure Report, Pre-Expenditure Report, and Intended Use Plan (OMB #0970-0234)

AGENCY: Office of Community Services, Administration for Children and Families, Department of Health and Human Services.

ACTION: Request for public comments.

SUMMARY: The Administration for Children and Families' (ACF) Office of Community Services (OCS) is requesting from OMB a three-year extension of the Social Services Block Grant (SSBG) Post-Expenditure Report, Pre-Expenditure Report, and Intended Use Plan (OMB #0970-0234). OCS is proposing to make minor editorial modifications to some column titles in the Pre- and Post-Expenditure Reports, for clarification.

DATES: Comments are due within 30 days of publication. OMB must decide about the collection of information between 30 and 60 days after publication of this document in the Federal Register. Therefore, a comment is best assured of having full consideration if OMB receives it within 30 days of this publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: On an annual basis, states and territories are required to submit the following reports: (1) An Intended Use Plan that provides data and narrative descriptions related to the state's SSBG program. The Intended Use Plan includes details about the delivery of SSBG services and the state agency administering the SSBG Program. ACF is proposing to expand the currently approved information collection to include the collection of states' Intended Use Plans with a model format. Recipients are required to submit their Pre-Expenditure Report no less than 30 days prior to the start of the period covered by the report. (2) A Pre-Expenditure Report demonstrates the state's anticipated allocation of SSBG funding among the 29 pre-defined SSBG service categories. Historically, states have submitted this report using the Post-Expenditure Report Form, and the associated burden is included in the currently approved information collection. Recipients are required to submit their Intended Use Plan no less than 30 days prior to the start of the period covered by the report, together with the Pre-Expenditure Report. (3) A Post-Expenditure Report details the state's actual use of SSBG funding among each of the 29 service categories. Recipients are required to submit their Post-Expenditure Report within 6 months of the end of the period covered by the report.

The law governing the programs at Title XX of the Social Security Act [42 U.S.C. 1397c] mandates states and territories submit to the federal administering office an Intended Use Plan and Pre-Expenditure report. These materials are to detail the planned use of funds. At the end of the fiscal year, the law also requires states to provide the federal agency with a reconciliation of the actual use of grant funds in the Post-Expenditure Report [42 U.S.C. 1397e].

The forms and model plans support the states and territories in meeting the statutory requirement and provide a consistent set of tools for information collection on the grants' use for each state, as well as grant wide. The state and territory reports are congregated and analyzed and, in turn, comprise the SSBG Annual Report. The data informs the program's performance and efficiency measures for program impact and efficacy. OCS is proposing to make minor editorial modifications to some column titles in the Pre- and Post-Expenditure Reports, for clarification.

Respondents: Agencies that administer the SSBG at the state or territory level, including the 50 states; the District of Columbia; the Commonwealth of Puerto Rico; Massachusetts Commission for the Blind (M-CFB); and the territories of American Samoa, Guam, the U.S. Virgin Islands, and the Commonwealth of Northern Mariana Islands.

Annual Burden Estimates
Instrument | Total number of respondents | Annual number of responses per respondent | Average burden hours per response | Annual burden hours
Pre-Expenditure Report Form | 57 | 1 | 2 | 114
Intended Use Plan | 57 | 1 | 40 | 2,280
Post-Expenditure Reporting Form | 57 | 1 | 110 | 6,270
Estimated Total Annual Burden Hours: |  |  |  | 8,664

Authority: 42 U.S.C. 1397-1397e.

Mary C. Jones,
ACF/OPRE Certifying Officer.

[FR Doc. 2024-02851 Filed 2-12-24; 8:45 am]

BILLING CODE 4184-24-P